DEPARTMENT OF THE INTERIOR

National Park Service

Notice of Intent to Repatriate Cultural Items in the Possession of the Peabody Museum of Archaeology and Ethnology, Harvard University, Cambridge, MA; Correction

AGENCY: National Park Service, Interior.

ACTION: Notice; correction.

Notice is here given in accordance with the Native American Graves Protection and Repatriation Act (NAGPRA), 25 U.S.C. 3005, Sec. 7, of the intent to repatriate cultural items in the possession of the Peabody Museum of Archaeology and Ethnology, Harvard University, Cambridge, MA, that meet the definition of “unassociated funerary objects” under 25 U.S.C. 3001.

This notice is published as part of the National Park Service’s administrative responsibilities under NAGPRA, 25 U.S.C. 3003, Sec. 5 (d)(3). The determinations within this notice are the sole responsibility of the museum, institution, or Federal agency that has control of these cultural items. The National Park Service is not responsible for the determinations within this notice.

This notice corrects the list of culturally affiliated tribes cited in the Notice of Intent to Repatriate Cultural Items published on October 5, 2001. During consultation following the publication of the original notice, the museum determined that the 10 unassociated funerary objects described in the notice are culturally affiliated with the Onondaga Nation of New York, as well as the Oneida Nation of New York and the Oneida Tribe of Wisconsin.

In the Federal Register of October 5, 2001, FR Doc. 01-24966, pages 51065-51066, paragraphs 5, 6, and 7 are corrected by substituting the following four paragraphs.

Museum records clearly indicate that these cultural items were removed from specific burials of Native American individuals. Based on the archeological materials from the sites, museum documentation, oral histories presented by the Cayuga Nation of New York, Oneida Nation of New York, Oneida Tribe of Wisconsin, Onondaga Nation of New York, St. Regis Band of Mohawk Indians of New York, Seneca Nation of New York, Seneca-Cayuga Tribe of Oklahoma, Tonawanda Band of Seneca Indians of New York, and Tuscarora Nation of New York, the date of the cultural items, and the provenience of these cultural items from areas considered to be aboriginal homelands and traditional burial areas of the Oneida and the Onondaga, a reasonable link of shared group identity may be made between these cultural items and the Oneida Nation of New York, Oneida Tribe of Wisconsin, and Onondaga Nation of New York.

Based upon the above-mentioned information, officials of the Peabody Museum of Archaeology and Ethnology have determined that, pursuant to 43 CFR 10.2(d)(2)(ii), these 10 cultural items are reasonably believed to have been placed with or near individual human remains at the time of death or later as part of the death rite or ceremony and are believed, by a preponderance of the evidence, to have been removed from specific burial sites of Native American individuals. Officials of the Peabody Museum of Archaeology and Ethnology also have determined that, pursuant to 43 CFR 10.2(e), there is a relationship of shared group identity that can be reasonably traced between these unassociated funerary objects and the Oneida Nation of New York, Oneida Tribe of Wisconsin, and Onondaga Nation of New York.

Representatives of any other Indian tribe that believes itself to be culturally affiliated with these unassociated funerary objects should contact Patricia Capone, Repatriation Coordinator, Peabody Museum of Archaeology and Ethnology, Harvard University, 11 Divinity Avenue, Cambridge, MA 02138, telephone (617) 496-3702, before April 14, 2003. Repatriation of these unassociated funerary objects to the Oneida Nation of New York, Oneida Tribe of Wisconsin, and Onondaga Nation of New York may proceed after that date if no additional claimants come forward.

The Peabody Museum of Archaeology and Ethnology is responsible for notifying the Cayuga Nation of New York; Delaware Nation, Oklahoma; Delaware Tribe of Indians, Oklahoma; Oneida Nation of New York; Oneida Tribe of Wisconsin; Onondaga Nation of New York; St. Regis Band of Mohawk Indians of New York; Seneca Nation of New York; Seneca-Cayuga Tribe of Oklahoma; Stockbridge-Munsee Community of Mohican Indians of Wisconsin; Tonawanda Band of Seneca Indians of New York; Tuscarora Nation of New York; and the nonfederally recognized Mohawk Nation Council of Chiefs.

Dated: January 31, 2003.
John Robbins,
Assistant Director, Cultural Resources Stewardship and Partnerships.

\

[FR Doc. 03-6211 Filed 3-13-03; 8:45 am]

BILLING CODE 4310-70-S